DEPARTMENT OF ENERGY

Federal Energy Regulatory Commission

Combined Notice of Filings #1

Take notice that the Commission received the following electric corporate filings:

Docket Numbers: EC19-2-000.

Applicants: AL Sandersville, LLC, Effingham County Power, LLC, MPC Generating, LLC, Walton County Power, LLC, Washington County Power, LLC.

Description: Joint Application for Authorization Under Section 203 of the Federal Power Act, et al. of AL Sandersville, LLC, et. al.

Filed Date: 10/3/18.

Accession Number: 20181003-5078.

Comments Due: 5 p.m. ET 10/24/18.

Take notice that the Commission received the following electric rate filings:

Docket Numbers: ER10-1521-004; ER10-1520-004;ER10-1522-003.

Applicants: Occidental Power Marketing, L.P., Occidental Power Services, Inc., Occidental Chemical Corporation.

Description: Second Supplement to June 29, 2018 Updated Market Power Analysis for the Central Region of the Occidental MBRA Entities.

Filed Date: 9/28/18.

Accession Number: 20180928-5171.

Comments Due: 5 p.m. ET 10/19/18.

Docket Numbers: ER17-2515-004.

Applicants: Chambers Cogeneration, Limited Partnership.

Description: Compliance filing: Settlement Compliance Filing to be effective 11/1/2017.

Filed Date: 10/1/18.

Accession Number: 20181001-5150.

Comments Due: 5 p.m. ET 10/22/18.

Docket Numbers: ER18-1424-001.

Applicants: Rio Bravo Fresno, A California Joint Venture.

Description: Report Filing: refund report 2018 to be effective N/A.

Filed Date: 10/2/18.

Accession Number: 20181002-5171.

Comments Due: 5 p.m. ET 10/23/18.

Docket Numbers: ER18-1427-001.

Applicants: Rio Bravo Rocklin, A California Joint Venture.

Description: Report Filing: refund report 2018 to be effective N/A.

Filed Date: 10/2/18.

Accession Number: 20181002-5174.

Comments Due: 5 p.m. ET 10/23/18.

Docket Numbers: ER18-2175-001.

Applicants: Mid-Atlantic Interstate Transmission, LLC, West Penn Power Company, The Potomac Edison Company, Monongahela Power Company, Trans-Allegheny Interstate Line Company, American Transmission Systems, Incorporated, PJM Interconnection, L.L.C.

Description: Tariff Amendment: MAIT et al submit Supplement in ER18-2175-000 re: IAs, SA Nos 2149 and 3743 to be effective 10/5/2018.

Filed Date: 10/3/18.

Accession Number: 20181003-5013.

Comments Due: 5 p.m. ET 10/24/18.

Docket Numbers: ER18-2426-001.

Applicants: The Potomac Edison Company, PJM Interconnection, L.L.C.

Description: Tariff Amendment: Potomac submits Supplemental Filing in ER18-2426-000 re: IA SA No. 4452 to be effective 11/13/2018.

Filed Date: 10/3/18.

Accession Number: 20181003-5007.

Comments Due: 5 p.m. ET 10/24/18.

Docket Numbers: ER19-29-001.

Applicants: NorthWestern Corporation.

Description: Tariff Amendment: New Baseline—Service Agreements under Montana OATT (Part 1) to be effective 10/8/2018.

Filed Date: 10/3/18.

Accession Number: 20181003-5008.

Comments Due: 5 p.m. ET 10/24/18.

Docket Numbers: ER19-29-002.

Applicants: NorthWestern Corporation.

Description: Tariff Amendment: New Baseline—Service Agreements under Montana OATT (Part 2) to be effective 10/8/2018.

Filed Date: 10/3/18.

Accession Number: 20181003-5012.

Comments Due: 5 p.m. ET 10/24/18.

Docket Numbers: ER19-29-003.

Applicants: NorthWestern Corporation.

Description: Tariff Amendment: New Baseline—Service Agreements under Montana OATT (Part 3 of 3) to be effective 10/8/2018.

Filed Date: 10/3/18.

Accession Number: 20181003-5014.

Comments Due: 5 p.m. ET 10/24/18.

Docket Numbers: ER19-33-001.

Applicants: NorthWestern Corporation.

Description: Tariff Amendment: New Baseline—Other Rate Schedules (Montana) to be effective 10/8/2018.

Filed Date: 10/2/18.

Accession Number: 20181002-5183.

Comments Due: 5 p.m. ET 10/23/18.

Docket Numbers: ER19-34-000.

Applicants: Midcontinent Independent System Operator, Inc.

Description: § 205(d) Rate Filing: 2018-10-02_MISO Pseudo-Tie Congestion Overlap Phase 2 Filing to be effective 3/1/2019.

Filed Date: 10/2/18.

Accession Number: 20181002-5155.

Comments Due: 5 p.m. ET 10/23/18.

Docket Numbers: ER19-35-000.

Applicants: CPV Biomass Holdings, LLC.

Description: Tariff Cancellation: Notice of Cancellation of Market-Based Rate Tariff to be effective 10/3/2018.

Filed Date: 10/2/18.

Accession Number: 20181002-5156.

Comments Due: 5 p.m. ET 10/23/18.

Docket Numbers: ER19-36-000.

Applicants: PJM Interconnection, L.L.C.

Description: Tariff Cancellation: Notice of Cancellation of WMPA SA No. 4910; Queue No. AC2-161 to be effective 11/5/2018.

Filed Date: 10/2/18.

Accession Number: 20181002-5157.

Comments Due: 5 p.m. ET 10/23/18.

Docket Numbers: ER19-37-000.

Applicants: Midcontinent Independent System Operator, Inc.

Description: § 205(d) Rate Filing: 2018-10-02_SA 3176 NSP-NSP GIA (J460) to be effective 9/28/2018.

Filed Date: 10/2/18.

Accession Number: 20181002-5184.

Comments Due: 5 p.m. ET 10/23/18.

Docket Numbers: ER19-38-000.

Applicants: Dominion Energy Fairless, LLC.

Description: Baseline eTariff Filing: Informational Reort—Rate Schedule No. 2 to be effective 12/7/2018.

Filed Date: 10/2/18.

Accession Number: 20181002-5185.

Comments Due: 5 p.m. ET 10/23/18.

Docket Numbers: ER19-39-000.

Applicants: Southern California Edison Company.

Description: § 205(d) Rate Filing: Eldorado Substation Additional Facilities and Interconnection Agreement to be effective 12/3/2018.

Filed Date: 10/3/18.

Accession Number: 20181003-5002.

Comments Due: 5 p.m. ET 10/24/18.

Docket Numbers: ER19-40-000.

Applicants: Southwest Power Pool, Inc.

Description: § 205(d) Rate Filing: 1628R13 Western Farmers Electric Cooperative NITSA to be effective 12/1/2018.

Filed Date: 10/3/18.

Accession Number: 20181003-5011.

Comments Due: 5 p.m. ET 10/24/18.

Docket Numbers: ER19-41-000.

Applicants: Mid-Atlantic Interstate Transmission, LLC, PJM Interconnection, L.L.C.

Description: § 205(d) Rate Filing: MAIT submits IA SA No. 4577 to be effective 12/3/2018.

Filed Date: 10/3/18.

Accession Number: 20181003-5018.

Comments Due: 5 p.m. ET 10/24/18.

Docket Numbers: ER19-42-000.

Applicants: NorthWestern Corporation.

Description: Tariff Cancellation: Cancellation of NWE Montana OATT under Tariff ID 28 to be effective 10/8/2018.

Filed Date: 10/3/18.

Accession Number: 20181003-5075.

Comments Due: 5 p.m. ET 10/24/18.

Docket Numbers: ER19-43-000.

Applicants: PJM Interconnection, L.L.C.

Description: Tariff Cancellation: Notice of Cancellation of WMPA SA No. 3389; Queue No. X3-081 to be effective 10/17/2018.

Filed Date: 10/3/18.

Accession Number: 20181003-5076.

Comments Due: 5 p.m. ET 10/24/18.

Docket Numbers: ER19-44-000.

Applicants: Idaho Power Company.

Description: Tariff Cancellation: Notice of Cancellation of Rate Schedule 163—Comm Agree—LaGrande-Pocatello to be effective 12/3/2018.

Filed Date: 10/3/18.

Accession Number: 20181003-5080.

Comments Due: 5 p.m. ET 10/24/18.

Docket Numbers: ER19-45-000.

Applicants: Citizens Sunrise Transmission LLC.

Description: § 205(d) Rate Filing: Annual TRBAA Filing October 2018 to be effective 1/1/2019.

Filed Date: 10/3/18.

Accession Number: 20181003-5086.

Comments Due: 5 p.m. ET 10/24/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 3, 2018.
Nathaniel J. Davis, Sr.,
Deputy Secretary.

[FR Doc. 2018-21939 Filed 10-9-18; 8:45 am]

BILLING CODE 6717-01-P